DEPARTMENT OF ENERGY

International Energy Agency Meetings

AGENCY: Department of Energy.

ACTION: Notice of meetings.

SUMMARY: The Industry Advisory Board (IAB) to the International Energy Agency (IEA) will meet on November 19, 2008, at the headquarters of the IEA in Paris, France, in connection with a joint meeting of the IEA's Standing Group on Emergency Questions (SEQ) and the IEA's Standing Group on the Oil Market on November 19, and on November 20 in connection with a meeting of the SEQ on November 20.

DATES: November 19-20, 2008.

ADDRESSES: 9, rue de la Fédération, Paris, France.

FOR FURTHER INFORMATION CONTACT: Diana D. Clark, Assistant General Counsel for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on November 19, 2008, beginning at 9:30 a.m. and at 8:30 a.m. on November 20. The purpose of this notice is to permit attendance by representatives of U.S. company members of the IAB at a joint meeting of the IEA's Standing Group on Emergency Questions (SEQ) and the IEA's Standing Group on the Oil Market (SOM) on November 19 beginning at 9:30 a.m. at the same location. The IAB will also hold a preparatory meeting among company representatives at the same location at 8:30 a.m. on November 20. The agenda for this preparatory meeting is to discuss the November 19 joint meeting of the SEQ and the SOM and to review the agenda for the SEQ meeting commencing at 9:30 a.m. on November 20.

The agenda of the joint SEQ/SOM meeting on November 19 is under the control of the SEQ and the SOM. It is expected that the SEQ and the SOM will adopt the following agenda:

1. Adoption of the Agenda

2. Approval of the Summary Record of the September 2008 SEQ/SOM Joint Session

3. The Current Oil Market Situation

4. Update on the Gas Market

5. The Medium-Term Outlook for the Products Market

6. The World Energy Outlook 2008: The Long-Term Outlook for the Oil Market

7. Developments on Recent Oil Market and Policy Developments in IEA Member Countries

8. Update on London/Jeddah Meetings

9. Dire Straits (Risk Affecting Chokepoints)

—The Strait of Hormuz

—The Strait of Malacca

—Consequences for the Tanker Market

10. Other Business

The agenda of the SEQ meeting on November 20, 2008, is under the control of the SEQ. It is expected that the SEQ will adopt the following agenda:

1. Adoption of the Agenda

2. Approval of the Summary Record of the 124th Meeting

3. Status of Compliance with IEP Stockholding Commitments

4. Emergency Response Review Program

—Questionnaire Response of Italy

—Questionnaire Response of Portugal

—Schedule of Emergency Response Reviews

5. Emergency Response Exercise

—Plan for Future Emergency Response Exercises

—Proposal for Workshop on Best Practices for Release of Public Stocks

6. Policy and Other Developments in Member Countries

—Australia

—Canada

7. Activities with International Organizations and Non-Member Countries

—Update on the Revised EU Directive on Emergency Oil Stocks

—Work on Candidate Countries

—Emergency Response Exercises in Thailand, China, and India

8. Report from the Industry Advisory Board

9. Emergency Policy for Natural Gas

10. Emergency Data Collection

—Final Evaluation of the Use of QuE (Emergency Data Questionnaire) During the Exercise in Capitals

11. Documents for Information

—Emergency Reserve Situation of IEA Member Countries on July 1, 2008

—Base Period Final Consumption: 4Q 2007-3Q 2008

—Monthly Oil Statistics: August 2008

—Emergency Contacts List

12. Other Business

—New SEQ Website

—New Division E-Mail Address

—Tentative Schedule of Meetings

—March 24-26, 2009

—June 23-25, 2009

—November 17-19, 2009

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, November 5, 2008.
Diana D. Clark,
Assistant General Counsel for International and National Security Programs.

[FR Doc. E8-26859 Filed 11-10-08; 8:45 am]

BILLING CODE 6450-01-P